ENVIRONMENTAL PROTECTION AGENCY

[FRL-9535-4]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 1188.11; TSCA Section 5(a); 40 CFR parts 3, 700 and 721; was approved on 07/01/2013; OMB Number 2070-0038; expires on 07/31/2016; Approved without change.

EPA ICR Number 2249.03; Tier 1 Screening of Certain Chemicals Under the Endocrine Disruptor Screening Program (EDSP); was approved on 07/03/2013; OMB Number 2070-0176; expires on 07/31/2016; Approved without change.

EPA ICR Number 1056.11; NSPS for Nitric Acid Plants; 40 CFR part 60 subparts A, G and Ga; was approved on 07/03/2013; OMB Number 2060-0019; expires on 07/31/2016; Approved without change.

EPA ICR Number 1783.06; NESHAP for Flexible Polyurethane Foam Product; 40 CFR part 63 subparts A and III; was approved on 07/23/2013; OMB Number 2060-0357; expires on 07/31/2016; Approved without change.

EPA ICR Number 1678.08; NESHAP for Magnetic Tape Manufacturing Operations; 40 CFR part 63 subparts A and EE; was approved on 07/25/2013; OMB Number 2060-0326; expires on 07/31/2016; Approved without change.

EPA ICR Number 2115.04; NESHAP for Miscellaneous Coating Manufacturing; 40 CFR part 63 subparts A and HHHHH; was approved on 07/25/2013; OMB Number 2060-0535; expires on 07/31/2016; Approved without change.

EPA ICR Number 1064.17; NSPS for Automobile and Light Duty Truck Surface Coating Operations; 40 CFR part 60 subparts A and MM; was approved on 07/25/2013; OMB Number 2060-0034; expires on 07/31/2016; Approved without change.

EPA ICR Number 1072.10; NSPS for Lead-Acid Battery Manufacturing; 40 CFR part 60 subparts A and KK; was approved on 07/25/2013; OMB Number 2060-0081; expires on 07/31/2016; Approved without change.

EPA ICR Number 1652.08; NESHAP for Halogenated Solvent Cleaners/Halogenated Hazardous Air Pollutants; 40 CFR part 63 subparts A and T; was approved on 07/25/2013; OMB Number 2060-0273; expires on 07/31/2016; Approved without change.

EPA ICR Number 1788.10; NESHAP for Oil and Natural Gas Production; 40 CFR part 63 subparts A and HH; was approved on 07/25/2013; OMB Number 2060-0417; expires on 07/31/2016; Approved without change.

EPA ICR Number 1790.06; NESHAP for Phosphoric Acid Manufacturing and Phosphate Fertilizers Production; 40 CFR part 63 subparts A, AA and BB; was approved on 07/25/2013; OMB Number 2060-0361; expires on 07/31/2016; Approved without change.

EPA ICR Number 1088.13; NSPS for Industrial-Commercial-Institutional Steam Generating Units; 40 CFR part 60 subparts A and Db; was approved on 07/31/2013; OMB Number 2060-0072; expires on 07/31/2016; Approved without change.

EPA ICR Number 1799.08; NESHAP for Mineral Wool Production (Renewal); 40 CFR part 63 subparts A and DDD; was approved on 07/25/2013; OMB Number 2060-0362; expires on 07/31/2016; Approved without change.

Comment Filed

EPA ICR Number 2485.01; NSPS for Kraft Pulp Mills for which Construction, Reconstruction or Modification; in 40 CFR part 60 subparts A and BBa; OMB filed comment on 07/16/2013.

Withdrawn and Continue

EPA ICR Number 0877.11; RadNet (Renewal); Withdrawn from OMB on 07/15/2013.

EPA ICR Number 2415.01; Pesticide Environmental Stewardship Program Annual Measures Reporting; Withdrawn from OMB on 07/23/2013.

John Moses,
Director, Collections Strategies Division.

[FR Doc. 2013-19139 Filed 8-7-13; 8:45 am]

BILLING CODE P